DEPARTMENT OF HOMELAND SECURITY

Coast Guard

33 CFR Part 117

[Docket No. USCG-2024-0018]

RIN 1625-AA09

Drawbridge Operation Regulation; Milwaukee, Menomonee, and Kinnikinnic Rivers, and South Menomonee and Burnham Canals

AGENCY: Coast Guard, DHS.

ACTION: Temporary final rule.

SUMMARY: The Coast Guard is temporarily modifying the operating schedule that governs the Cherry Street Bridge, mile 2.29, over the Milwaukee River. The Wisconsin Department of Transportation and the City of Milwaukee have requested this temporary deviation to allow contractors to complete an extensive rehabilitation of the bridge.

DATES: This temporary final rule is effective from September 26, 2024 through 11:59 p.m. on April 1, 2025.

ADDRESSES: To view documents mentioned in this preamble as being available in the docket, go to https://www.regulations.gov. Type the docket number USCG-2024-0018 in the “SEARCH” box and click “SEARCH”. In the Document Type column, select “Supporting & Related Material.”

FOR FURTHER INFORMATION CONTACT: If you have questions on this proposed rule, call or email call or email Mr. Lee D. Soule, Bridge Management Specialist, Ninth Coast Guard District; telephone 216-902-6085, email Lee.D.Soule@uscg.mil.

SUPPLEMENTARY INFORMATION:

I. Table of Abbreviations

CFR Code of Federal Regulations

DHS Department of Homeland Security

FR Federal Register

IGLD85 International Great Lakes Datum of 1985

LWD Low Water Datum based on IGLD85

OMB Office of Management and Budget

NPRM Notice of Proposed Rulemaking

§ Section

U.S.C. United States Code

II. Background Information and Regulatory History

On April 8, 2024, the Coast Guard published a notice of proposed rulemaking (NPRM), with a request for comments, entitled, “Drawbridge Operation Regulation; Milwaukee, Menomonee, and Kinnikinnic Rivers, and South Menomonee and Burnham Canals” in the Federal Register (89 FR 24396). There we stated why we issued the NPRM, and invited comments on our proposed regulatory action related to this temporary rule. During the sixty-day comment period that ended on June 7, 2024, we received no comments.

Under 5 U.S.C. 553(d)(3), the Coast Guard finds that good cause exists for making this rule effective less than 30 days after publication in the Federal Register. Delaying the effective date of this rule would be impracticable because immediate action is needed due to the construction project to rehabilitate the bridge that is beginning immediately.

III. Legal Authority and Need for Rule

The Coast Guard is issuing this rule under authority in 33 U.S.C. 499. The Cherry Street Bridge, mile 2.29, over the Milwaukee River, is a double leaf bascule bridge that provides a horizontal clearance of 80-feet and a vertical clearance of 14-feet in the closed position and an unlimited clearance in the open position based on LWD and is governed by 33 CFR 117.1093.

The bridge needs extensive rehabilitation work, which will affect the ability of large vessels to pass for an extended amount of time.

This portion of the Milwaukee River is primarily transited by small unpowered vessels and occasionally by larger power-driven vessels.

IV. Discussion of Comments, Changes, and the Temporary Final Rule

The Coast Guard provided a sixty-day comment period, and no comments were received. The Cherry Street Bridge requires extensive electrical rehabilitation, including installation of a new submarine cable under the river bottom that will prevent the bridge from opening during installation. This type of work is typically completed during the winter months when vessel traffic is at its lowest. However, Milwaukee is hosting a national convention of nationwide significance in July 2024, and construction can not start until the convention concludes.

The vessels that normally transit the river are less than 40-feet wide but are over 14-feet in height. To accommodate their passage, one leaf of the bridge would remain open, except from November 1 through April 1, when both leaves would be secured and unable to open for any vessels.

The local DOT and City Offices provided a public information meeting in June 2023 and the proceedings can be viewed by visiting the City of Milwaukee Department of Public Works web page, available at https://city.milwaukee.gov/dpw. The U.S. Army Corps of Engineers will approve the installment of the submarine cable.

V. Regulatory Analyses

We developed this rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, it has not been reviewed by the Office of Management and Budget (OMB).

This regulatory action determination is based on the continuing ability of vessels to transit the bridge through the one open leaf during the summer and that the closure of both leaves will occur during a period when ice historically prevents vessel navigation.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Amend § 117.1093 by adding paragraph (a) (6) to read as follows:

§ 117.1093 Milwaukee, Menomonee, and Kinnikinnic Rivers and South Menomonee and Burnham Canals.

(a) * * *

(6) The draw of the Cherry Street Bridge, mile 2.29, over the Milwaukee River, will, from July 22, 2024, through October 31, 2024, secure one bridge leaf in the down position and operate the other bridge leaf normally for the passage of vessels. From November 1, 2024, through April 1, 2025, both leaves will be secured in the down position and the bridge will not open for the passage of vessels.

* * * * *

Jonathan Hickey,
Rear Admiral, U.S. Coast Guard, Commander, Ninth Coast Guard District.

[FR Doc. 2024-21971 Filed 9-25-24; 8:45 am]

BILLING CODE 9110-04-P